DEPARTMENT OF ENERGY

Proposed Agency Information Collection

AGENCY: U.S. Department of Energy.

ACTION: Notice and request for OMB review and comment.

SUMMARY: Pursuant to the Paperwork Reduction Act of 1995, the Department of Energy (DOE) invites public comment on a proposed emergency collection of information that DOE is developing to collect data on the status of activities, project progress, jobs created and retained, spend rates and performance metrics under the American Recovery and Reinvestment Act of 2009. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this collection must be received on or before April 9, 2010. If you anticipate difficulty in submitting comments within that period, contact the person listed in ADDRESSES as soon as possible.

ADDRESSES: Written comments may be sent to:

Anthony Brooks, Department of Energy, 1000 Independence Ave., SW., Washington, DC 20585.

Or by fax at 202-586-6969, or by e-mail at recoveryinformationcenter@hq.doe.gov and

DOE Desk Officer, Office of Information and Regulatory Affairs, Office of Management and Budget, New Executive Office Building, Room 10102, 725 17th Street, NW., Washington, DC 20503.

FOR FURTHER INFORMATION CONTACT:

Requests for additional information or copies of the information collection instrument and instructions should be directed to Anthony Brooks at recoveryinformationcenter@hq.doe.gov.

SUPPLEMENTARY INFORMATION: This emergency information collection request contains: (1) New; (2) Information Collection Request Title: Department of Energy (DOE); (3) Type of Review: Emergency; (4) Purpose: To collect data on the status of activities, project progress, jobs created and retained, spend rates and performance metrics under the American Recovery and Reinvestment Act of 2009. This will ensure adequate information is available to support sound project management and to meet the transparency and accountability associated with the Recovery Act by requesting approval for monthly reporting; (5) Annual Estimated Number of Respondents: 3,700; (6) Annual Estimated Number of Total Responses: 14,800; (7) Annual Estimated Number of Burden Hours: Approximately 93,240; (8) Annual Estimated Reporting and Recordkeeping Cost Burden: $13,986,000.

Statutory Authority: Title IV of the American Recovery and Reinvestment Act of 2009, Pub. L. 11-5.

Issued in Washington, DC, on March 19, 2010.
Jay Hoffman,
Director, Office of Program Analysis & Evaluation, Office of CFO.

[FR Doc. 2010-6721 Filed 3-25-10; 8:45 am]

BILLING CODE 6450-01-P